DEPARTMENT OF TRANSPORTATION

Federal Motor Carrier Safety Administration

[Docket No. FMCSA-2001-10578]

Qualification of Drivers; Exemption Applications; Vision

AGENCY: Federal Motor Carrier Safety Administration (FMCSA), DOT.

ACTION: Notice of applications for exemption from the vision standard; request for comments.

SUMMARY: This notice announces the FMCSA's receipt of applications from 37 individuals for an exemption from the vision requirement in the Federal Motor Carrier Safety Regulations (FMCSRs). If granted, the exemptions will enable these individuals to qualify as drivers of commercial motor vehicles (CMVs) in interstate commerce without meeting the vision standard prescribed in 49 CFR 391.41(b)(10).

DATES: Comments must be received on or before November 23, 2001.

ADDRESSES: Mail or hand deliver comments to the U.S. Department of Transportation, Dockets Management Facility, Room PL-401, 400 Seventh Street, SW, Washington, DC 20590, or submit electronically at http://dmses.dot.gov/submit. All comments received will be available for examination and copying at the above address from 9 a.m. to 5 p.m., e.t., Monday through Friday, except Federal holidays. Those desiring notification of receipt of comments must include a self-addressed, stamped postcard, or you may print the acknowledgment page that appears after submitting comments electronically.

FOR FURTHER INFORMATION CONTACT: For information about the vision exemptions in this notice, Ms. Sandra Zywokarte, Office of Bus and Truck Standards and Operations, (202) 366-2987; for information about legal issues related to this notice, Mr. Joseph Solomey, Office of the Chief Counsel, (202) 366-1374, FMCSA, Department of Transportation, 400 Seventh Street, SW, Washington, DC 20590. Office hours are from 7:45 a.m. to 4:15 p.m., e.t., Monday through Friday, except Federal holidays.

SUPPLEMENTARY INFORMATION:

Electronic Access and Filing

You may see all the comments online through the Document Management System (DMS) at: http://dmses.dot.gov/submit.

Background

Thirty-seven individuals have requested an exemption from the vision requirement in 49 CFR 391.41(b)(10), which applies to drivers of CMVs in interstate commerce. Under 49 U.S.C. 31315 and 31136(e), the FMCSA may grant an exemption for a renewable 2-year period if it finds “such exemption would likely achieve a level of safety that is equivalent to, or greater than, the level that would be achieved absent such exemption.” Accordingly, the agency will evaluate the qualifications of each applicant to determine whether granting the exemptions will achieve the required level of safety.

Qualifications of Applicants

1. Loa M. Boggs

Mr. Boggs, age 50, has amblyopia of the left eye. His aided acuity is 20/20 with the right eye and 20/200 with the left. An optometrist who examined him in 2000 stated, “In my opinion, he has sufficient vision to continue operating a commercial vehicle.” Mr. Boggs submitted that he has driven straight trucks for 21 years, accumulating 577,000 miles. He holds a Class D driver's license from West Virginia. His driving record shows he has had no accidents or convictions for traffic violations in a CMV for the last 3 years.

2. Anthony Brandano

Mr. Brandano, 35, has amblyopia in his right eye. His corrected vision is 20/40-in the right eye and 20/20 in the left eye. Following an examination in 2001, his ophthalmologist concluded, “It is my opinion patient has sufficient vision to drive a commercial vehicle.” Mr. Brandano reported that he has operated straight trucks for 2 years, traveling 100,000 miles, and tractor-trailer combinations for 6 years, traveling 750,000 miles. He holds a Class A CDL from New York, and his driving record for the last 3 years shows no accidents or convictions for moving violations in a CMV.

3. Jerald D. Davis

Mr. Davis, 58, is blind in the left eye due to trauma in 1959. His best-corrected visual acuity is 20/20 in the right eye. An ophthalmologist examined him in 2001 and affirmed, “In my medical opinion he has sufficient vision to perform the driving tasks required to operate a commercial vehicle.” Mr. Davis submitted that he has driven tractor-trailer combinations for 27 years, accumulating 4.0 million miles. He holds a Class A CDL from Texas. His driving record shows he has had no accidents and one conviction for a moving violation—Speeding—in a CMV during the last 3 years. He exceeded the speed limit by 13 mph.

4. Vernon J. Dohrn

Mr. Dohrn, 65, has amblyopia in his right eye. The corrected vision in his right eye is 20/80- and in the left eye, 20/20. His optometrist examined him in 2001 and certified, “In my opinion, this patient can safely perform the visual tasks required to operate a commercial vehicle even with the vision deficiency in his right eye.” Mr. Dohrn stated in his application that he has driven tractor-trailer combination vehicles for 31 years, accumulating 2.7 million miles, and straight trucks for 7 years, accumulating 280,000 miles. He holds a Minnesota Class A CDL. His driving record shows he has had no accidents and one conviction for a moving violation—Drive and/or Pass on Shoulder—in a CMV during the past 3 years.

5. Stanley E. Elliott

Mr. Elliott, 47, has amblyopia in his left eye. His corrected vision is 20/20 in the right eye and 20/70⁻² in the left eye. Following an examination in 2001, his optometrist concluded, “It is my opinion that Mr. Elliott can perform all driving tasks related to operating a commercial vehicle.” According to Mr. Elliott's application, he has 4 years of experience driving straight trucks, totaling 150,000 miles, and 12½ years of experience driving tractor-trailers, totaling 312,500 miles. He holds a Utah Class A CDL and has had no accidents or moving violations in a CMV for the past 3 years, according to his driving record.

6. Elmer E. Gockley

Mr. Gockley, 56, has had a corneal scar in his right eye since age 6. His best-corrected visual acuity in the right eye is counting fingers at 2 feet and in the left eye 20/20. An ophthalmologist examined him in 2001 and certified, “I verify that Mr. Gockley has sufficient vision to perform the driving tasks required to operate a commercial vehicle at this time.” Mr. Gockley submitted that he has driven straight trucks for 11 years, traveling 220,000 miles, and tractor-trailer combinations for 40 years, traveling 4.2 million miles. He holds a Class A CDL from Pennsylvania, and his driving record for the past 3 years shows no accidents or convictions for moving violations in a CMV.

7. Paul C. Gruenberg

Mr. Gruenberg, 53, is blind in the left eye due to an injury at the age of 12. The corrected visual acuity in his right eye is 20/15. An ophthalmologist examined him in 2001 and stated, “He should have no problem operating commercial vehicle(s).” Mr. Gruenberg reported he has 3 years' and 240,000 miles' experience driving tractor-trailer combinations. He holds a Class A CDL from Florida, and his driving record for the last 3 years shows no accidents or convictions for moving violations in a CMV.

8. Tommy D. Habben

Mr. Habben, 36, has amblyopia in his left eye. His corrected vision in the right eye is 20/25⁻² and in the left, 20/100. An optometrist examined him in 2001 and certified, “It is my opinion that Mr. Habben has sufficient vision to perform driving tasks required to operate a commercial vehicle.” Mr. Habben reported that he has driven straight trucks for 15 years, accumulating 750,000 miles. He holds a Class D driver's license from Tennessee and has no accidents or convictions for moving violations in a CMV on his driving record during the last 3 years.

9. Glenn T. Hehner

Mr. Hehner, 53, had a perforation of his right eye in 1963. He has no light perception in the right eye and 20/20 vision, best-corrected, in the left eye. An ophthalmologist examined him in 2000 and certified, “In my opinion he has sufficient vision to perform the driving tasks required to operate a commercial vehicle.” Mr. Hehner reported that he has 13 years' experience driving straight trucks and has accumulated 1.3 million miles. He holds a Class DMB CDL from Kentucky, and there are no accidents or convictions for moving violations in a CMV on his record for the last 3 years.

10. Carl R. Hunt

Mr. Hunt, 64, has a right eye that is aphakic with a retinal detachment and scar formation. His corrected vision in the right eye is hand motion and in the left, 20/20. Following an examination in 2001, his ophthalmologist stated, “I certify that it is my medical opinion that Carl R. Hunt has sufficient vision to perform driving tasks required to operate a commercial vehicle since his left eye is in excellent visual shape.” In his application, Mr. Hunt indicated he has driven straight trucks for 47 years, accumulating 1.4 million miles. He holds a Class E license from the State of Missouri, and his driving record shows he has had no accidents or convictions for moving violations in a CMV during the last 3 years.

11. Shane M. Hunter

Mr. Hunter, 29, has amblyopia in his right eye. His best-corrected visual acuities are 20/60 in the right eye and 20/20 in the left. Following an examination in 2001, his optometrist stated, “In my opinion, Shane has sufficient vision to operate a commercial vehicle as long as he is wearing glasses or contact lenses to give him optimum driving efficiency.” In his application, Mr. Hunter indicated he has driven straight trucks for 3 years, accumulating 78,000 miles. He holds an Operator's license from the State of Washington, and his driving record shows he has had no accidents or convictions for moving violations in a CMV during the last 3 years.

12. Thomas M. Ingebretsen

Mr. Ingebretsen, 45, has retinal scars in his left eye due to toxoplasmosis at age 3. His best-corrected visual acuity is 20/20 in the right eye and 20/60 in the left. Following an examination in 2001, his ophthalmologist stated, “I reiterate my statement on my last letter to you that Mr. Ingebretsen has sufficient vision to operate a commercial vehicle according to the guidelines you have submitted to me.” Mr. Ingebretsen reported that he has 18 years' experience driving straight trucks, accumulating 409,000 miles, and 12 years' experience driving tractor-trailer combinations, accumulating 420,000 miles. He holds a Class A CDL from California, and his driving record shows he has had no accidents or convictions for moving violations in a CMV over the last 3 years.

13. Lonnie M. Jones

Mr. Jones, 50, is blind in his right eye due to a childhood injury. His best-corrected visual acuity is 20/20 in the left eye. An ophthalmologist examined him in 2001 and affirmed, “In my medical opinion, this patient has sufficient vision to perform the driving tasks required to operate a commercial vehicle.” Mr. Jones submitted that he has driven tractor-trailer combinations for 27 years and straight trucks for 2 years, accumulating 3.2 million miles and 6,000 miles, respectively. He holds a Class A CDL from Georgia. His driving record shows that he has had no accidents and one conviction for a moving violation—Speeding—in a CMV during the last 3 years. He exceeded the speed limit by 17 mph.

14. Martin D. Keough

Mr. Keough, 52, has 20/400 vision in his left eye from an injury over 40 years ago. The visual acuity in his right eye is 20/20+. An optometrist examined him in 2001 and stated, “In my professional opinion this patient can drive a motor vehicle and operate a commercial vehicle safely.” Mr. Keough submitted that he has driven straight trucks and tractor-trailer combinations for 25 years, accumulating 250,000 miles in the former and 125,000 miles in the latter. He holds a Class AM CDL from New York, and his driving record for the last 3 years shows no accidents or convictions for traffic violations in a CMV.

15. Ricky J. Knutson

Mr. Knutson, 46, had his left eye enucleated in 1990 due to a choroidal melanoma. The visual acuity in his right eye is 20/20 with correction. His optometrist examined him in 2001 and certified, “Rick has sufficient vision to perform any driving tasks to safely operate a commercial vehicle.” In his application, Mr. Knutson indicated he has driven straight trucks for 13 years, accumulating 195,000 miles, and tractor-trailer combinations for 5 years, accumulating 225,000 miles. He holds a Class A CDL from Minnesota, and his driving record for the past 3 years shows he has had no accidents or convictions for traffic violations in a CMV.

16. Randall B. Laminack

Mr. Laminack, 43, has amblyopia in his right eye. His best-corrected visual acuities are 20/200 in the right eye and 20/20 in the left eye. Following a 2001 examination, his optometrist stated, “In my medical opinion, Randy has sufficient vision to perform the driving tasks required to operate a commercial vehicle.” According to his application, Mr. Laminack has operated tractor-trailer combinations for 20 years and 2.0 million miles, and straight trucks for 5 years and 500,000 miles. He holds a Class A CDL from Texas, and he has had no accidents or convictions for moving violations in a CMV during the last 3 years.

17. Norman R. Lamy

Mr. Lamy, 49, has amblyopia in his left eye. His best-corrected visual acuity is 20/15 in the right eye and 20/70 in the left eye. An optometrist examined him in 2001 and certified, “Central and peripheral field results are sufficient for driving tasks required to operate a commercial vehicle.” Mr. Lamy submitted that he has driven straight trucks for 13 years, accumulating 377,000 miles. He holds a Class B CDL from Massachusetts. His driving record for the last 3 years shows no accidents or convictions for traffic violations in a CMV.

18. James A. Lenhart

Mr. Lenhart, 46, has amblyopia in his right eye. His best-corrected visual acuities are 20/70 in his right eye and 20/20 in his left eye. Following a 2001 examination, his ophthalmologist noted, “It is my medical opinion that Mr. James Lenhart has sufficient vision to perform driving tasks required to operate a commercial vehicle.” According to Mr. Lenhart, he has operated straight trucks for 20 years, accumulating 2.0 million miles, and tractor-trailer combinations for 5 years, accumulating 625,000 miles. He holds a West Virginia Class A CDL, and he has no accidents or convictions for moving violations on his driving record for the last 3 years.

19. Dennis L. Lockhart, Sr.

Mr. Lockhart, 55, has amblyopia in his left eye. His corrected vision in the right eye is 20/20 and in the left, 20/400. An optometrist examined him in 2001 and certified, “His condition is congenital and stable, and should not interfere with operating a commercial vehicle.” Mr. Lockhart submitted that he has driven tractor-trailer combinations for 15 years traveling 750,000 miles and straight trucks for 7 years traveling 490,000 miles. He holds a Class A CDL from Virginia, and his driving record for the past 3 years shows no accidents or convictions for moving violations in a CMV.

20. Jerry J. Lord

Mr. Lord, 49, has amblyopia in his right eye. His best-corrected visual acuity is 20/25 in the left eye and counting fingers in the right eye. Mr. Lord was examined in 2001 and his ophthalmologist stated, “I certify that in my medical opinion, Mr. Lord has sufficient vision to perform the driving tasks required to operate a commercial vehicle.” Mr. Lord submitted that he has driven straight trucks for 33 years, accumulating 3.3 million miles. He holds a Maryland Class BM CDL, and his driving record for the last 3 years contains no accidents or convictions for moving violations in a CMV.

21. Raymond P. Madron

Mr. Madron, 50, has had scarring of his right eye since birth due to toxoplasmosis. His vision in the right eye is 20/200−¹, not correctable, and in the left eye, 20/20 without correction. Following an examination in 2001, his optometrist affirmed, “Raymond Madron is able to see to operate a commercial vehicle without a vision correction.” Mr. Madron holds a Class AM CDL from Maryland and reported that he has driven straight trucks for 7 years, accumulating 105,000 miles, and tractor-trailer combinations for 21 years, accumulating 630,000 miles. His driving record shows no accidents or convictions for moving violations in a CMV for the past 3 years.

22. Ronald S. Mallory

Mr. Mallory, 45, has amblyopia in his left eye. His visual acuity is 20/20+ in the right eye without correction and 20/400 in the left eye, not correctable. An optometrist examined him in 2001 and certified, “He has sufficient vision required to perform driving tasks with a commercial vehicle.” Mr. Mallory, who holds a Class A CDL from Oklahoma, reported that he has been driving straight trucks and tractor-trailer combinations for 25 years, accumulating 625,000 miles in the former and 125,000 in the latter. His driving record shows he has had no accidents or convictions for traffic violations in a CMV during the last 3 years.

23. Keith G. McCully

Mr. McCully, 62, has amblyopia in his right eye. His best-corrected visual acuity is 20/200 in the right eye and 20/20+ in the left eye. Following an examination in 2000, his optometrist certified, “He does have sufficient vision to perform the driving tasks required to operate a commercial vehicle.” Mr. McCully submitted that he has driven tractor-trailer combinations for 40 years, accumulating 3.2 million miles. He holds a Class A CDL from Montana. His driving record for the last 3 years shows no accidents or convictions for traffic violations in a CMV.

24. Ernest L. McLendon

Mr. McLendon, 51, lost light perception in his right eye in 1985 due to glaucoma. The visual acuity in his left eye is 20/20, best-corrected. An optometrist examined him in 2001 and certified, “He has sufficient vision to operate a commercial vehicle with no medical condition that would compromise his visual field OS [left].” Mr. McLendon submitted that he has driven tractor-trailer combinations for 23 years, traveling 2.7 million miles, and straight trucks for 6 years, traveling 480,000 miles. He holds a Class A CDL from Florida, and his driving record for the past 3 years shows no accidents or convictions for moving violations in a CMV.

25. Charles J. Morman

Mr. Morman, 48, has had a chorioretinal lesion of the right eye since birth. His aided visual acuity is 20/400 with the right eye and 20/20 with the left. An optometrist who examined him in 2001 stated, “In my opinion, Mr. Morman has sufficient vision to operate a commercial motor vehicle.” Mr. Morman reported that he has 5 years' experience driving straight trucks, accumulating 250,000 miles, and 20 years' experience driving tractor-trailer combinations, accumulating 1.2 million miles. He holds a Class A CDL from Florida, and his driving record shows he has had no accidents or convictions for moving violations in a CMV over the last 3 years.

26. Eugene C. Murphy

Mr. Murphy, 47, has chorioretinal scarring and a retinal detachment in the right eye due to an injury at age 13. His best-corrected visual acuity in the right eye is hand motion at one foot and in the left 20/20. Following an examination in 2001, his ophthalmologist commented, “In my medical opinion, Mr. Murphy has significant binocular visual acuity as well as horizontal visual field to meet the requirements to operate a commercial vehicle.” Mr. Murphy indicated he has driven straight trucks for 20 years and 910,000 miles. He holds a Class B CDL from Maine, and his driving record for the last 3 years shows no accidents or convictions for moving violations in a CMV.

27. Jack E. Potts, Jr.

Mr. Potts, 28, has amblyopia of the left eye. His best-corrected visual acuities are 20/20 in the right eye and 20/200 in the left eye. In 2001 his optometrist examined him and affirmed, “Upon completion of Jack's most recent visual examination, I have determined that he has sufficient vision to perform the driving tasks required to operate a commercial vehicle.” Mr. Potts submitted that he has 6 years of experience driving straight trucks for 165,000 miles. He holds a Class C license from Pennsylvania, and his driving record for the last 3 years has no accidents or convictions for a moving violation in a CMV.

28. Bernard A. Ranly

Mr. Ranly, 50, has amblyopia of the left eye. The visual acuity of his right eye is 20/20 uncorrected and of the left eye 20/50 corrected. His optometrist examined him in 2001 and certified, “It is my opinion, since this is a long-term condition, that Mr. Ranly has adapted very well and that Mr. Ranly has sufficient vision to perform the driving tasks required to operate a commercial vehicle.” Mr. Ranly reported that he has driven tractor-trailer combinations for 29 years, accumulating 3.1 million miles. He holds a Class AM CDL from Texas, and his driving record for the last 3 years shows no accidents or convictions for moving violations in a CMV.

29. John E. Rogstad

Mr. Rogstad, 50, has amblyopia of the left eye. His aided acuity is 20/20 with the right eye and 20/200 with the left eye. An optometrist who examined him in 2001 stated, “It is my opinion that Mr. Rogstad has sufficient vision to perform the driving tasks required to operate a commercial vehicle.” Mr. Rogstad reported that he has driven straight trucks for 30 years, accumulating 360,000 miles. He holds a Class ABCD CDL from Wisconsin, and his driving record for the last 3 years shows no accidents or convictions for moving violations in a CMV.

30. Jerry W. Russell

Mr. Russell, 55, has had a cataract in his right eye since birth. His vision is light perception only in the right eye and 20/20 in the left eye. His optometrist examined him in 2001 and certified, “Because Mr. Russell's condition has been present since birth, there is no risks of further changes, and he is safe to perform the task of driving a commercial vehicle.” Mr. Russell reported that he has driven straight trucks for 7 years, accumulating 218,400 miles. He holds a Class D license from Kentucky. His driving record for the last 3 years shows no accidents and no convictions for moving violations in a CMV.

31. Stephen G. Sniffin

Mr. Sniffin, 52, has amblyopia in his left eye. His best-corrected visual acuity is 20/20 in the right eye and 20/400 in the left. His ophthalmologist examined him in 2000 and noted, “Patient has sufficient vision to operate a commercial vehicle.” Mr. Sniffin submitted that he has driven straight trucks for 32 years, accumulating 1.3 million miles, and buses for 4 years, accumulating 40,000 miles. He holds a Class A CDL, and his driving record shows he has had no accidents or convictions for moving violations in a CMV in the last 3 years.

32. John R. Snyder

Mr. Snyder, 31, has amblyopia in his right eye. His best-corrected vision is 20/80 in the right eye and 20/20 in the left. An ophthalmologist examined him in 2000 and certified, “It is my opinion that Mr. John Snyder has sufficient vision to perform any driving task required to operate a commercial vehicle.” Mr. Snyder reported that he has operated tractor-trailer combinations for 8 years and 560,000 miles, and straight trucks for 13 years and 65,000 miles. He holds a Class A license from the State of Washington. His driving record for the last 3 years shows he has had no accidents and one conviction for a moving violation—Failure to Yield Right of Way to Emergency Vehicle—in a CMV.

33. Darwin J. Thomas

Mr. Thomas, 52, has amblyopia in his left eye. His best-corrected visual acuities are 20/25 in the right eye and 20/200 in the left. Following an examination in 2001, his optometrist certified, “In my medical opinion, Mr. Thomas has sufficient vision to continue to drive his commercial vehicle.” Mr. Thomas submitted that he has 17 years' and 2.0 million miles' experience operating tractor-trailer combinations, and 2 years' and 12,000 miles' experience operating straight trucks. He holds a Class A CDL from Pennsylvania, and his driving record shows he has had no accidents or convictions for moving violations in a CMV for the last 3 years.

34. Rene R. Trachsel

Mr. Trachsel, 43, has had a macular scar in his left eye since January 1994. The vision in his right eye is 20/20 and in the left eye, 20/200. Following an examination in 2001, his ophthalmologist certified, “In my opinion, his vision is adequate to perform all tasks required to operate a commercial vehicle, as for practical purposes his central vision is 20/20 by a virtue of the central vision in the right eye, and his peripheral vision is entirely unaffected.” In his application, Mr. Trachsel stated he has driven tractor-trailer combinations for 15 years, accumulating 122,850 miles. He holds an Oregon Class A CDL. His official driving record for the last 3 years shows no accidents or convictions for moving violations in a CMV.

35. Stephen D. Vice

Mr. Vice, 46, has amblyopia in his right eye. His best-corrected visual acuities are 20/70⁻¹ in the right eye and 20/20 in the left. An optometrist examined him in 2001 and certified, “In my personal opinion, Mr. Vice's vision is adequate to operate a commercial vehicle.” Mr. Vice submitted that he has driven buses for 4 years, accumulating 35,000 miles, and straight trucks for 2 years, accumulating 20,000 miles. He holds a Class DB Operator/CDL from Kentucky, and his driving record for the last 3 years shows he has had no accidents or convictions for moving violations in a CMV.

36. John H. Voigts

Mr. Voigts, 49, has had a corneal opacity in his left eye since birth. The corrected vision in his right eye is 20/20 and in the left eye, light perception only. Following an examination in 2001, his optometrist certified, “I feel there is no reason why he cannot continue to drive commercial because of his vision.” According to his application, Mr. Voigts has operated straight trucks for 30 years, accumulating 2.2 million miles, and tractor-trailer combinations for 27 years, accumulating 2.7 million miles. He holds a Class A CDL from Arizona. His official driving record for the last 3 years shows no accidents or convictions for moving violations in a CMV.

37. Kendle F. Waggle, Jr.

Mr. Waggle, 38, has been aphakic in his right eye since birth. His aided acuity is 20/150 with the right eye and 20/20 with the left eye. An optometrist who examined him in 2001 stated, “In my medical opinion, since he has driven a commercial vehicle with this vision condition for many years, I feel he has sufficient vision to perform the driving tasks required to operate a commercial vehicle as he has in the past.” Mr. Waggle submitted that he has driven straight trucks and tractor-trailer combinations for 15 years, accumulating 150,000 miles in the former and 772,500 miles in the latter. He holds a Class A CDL from Indiana, and his driving record for the last 3 years shows no accidents or convictions for traffic violations in a CMV.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may publish in the Federal Register a notice of final determination at any time after the close of the comment period.

Issued on: October 19, 2001.
Brian M. McLaughlin,
Associate Administrator for Policy and Program Development.

[FR Doc. 01-26810 Filed 10-23-01; 8:45 am]

BILLING CODE 4910-EX-P